DEPARTMENT OF TRANSPORTATION

Federal Aviation Administration

14 CFR Part 39

[Docket No. 2001-SW-20-AD]

RIN 2120-AA64

Airworthiness Directives; Eurocopter France Model AS350B, AS350B1, AS350B2, AS350B3, AS350BA, AS350C, AS350D, AS350D1, AS355E, AS355F, AS355F1, AS355F2, and AS355N Helicopters

AGENCY: Federal Aviation Administration, DOT.

ACTION: Notice of proposed rulemaking (NPRM).

SUMMARY: This document proposes adopting a new airworthiness directive (AD) for Eurocopter France (ECF) Model AS350B, AS350B1, AS350B2, AS350B3, AS350BA, AS350C, AS350D, AS350D1, AS355E, AS355F, AS355F1, AS355F2, and AS355N helicopters. This proposal would require replacing the tail rotor hub pitch change plate “SNR” bearing (bearing). This proposal is prompted by fatigue cracks found in the bearings. The actions specified by the proposed AD are intended to prevent seizure of the bearing, loss of tail rotor effectiveness, and subsequent loss of control of the helicopter.

DATES: Comments must be received on or before January 28, 2002.

ADDRESSES: Submit comments in triplicate to the Federal Aviation Administration (FAA), Office of the Regional Counsel, Southwest Region, Attention: Rules Docket No. 2001-SW-20-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-20-AD.” The postcard will be date stamped and returned to the commenter.

Availability of NPRMs

Any person may obtain a copy of this NPRM by submitting a request to the FAA, Office of the Regional Counsel, Southwest Region, Attention: Rules Docket No. 2001-SW-20-AD, 2601 Meacham Blvd., Room 663, Fort Worth, Texas 76137.

Discussion

The Direction Generale De L'Aviation Civile (DGAC), the airworthiness authority for France, notified the FAA that an unsafe condition may exist on ECF Model AS350 and AS355 series helicopters. The DGAC advises of cracks on some ECF Model AS350B3 bearings, which can lead to a malfunctioning of the tail rotor hub pitch change plate and loss of control of the helicopter. The same bearing may be used on all ECF Model AS350 and AS355 helicopters.

ECF has issued Telex Alert Nos. 01.00.46 for the Model AS355 and 01.00.48 for the Model AS350 helicopters, both dated February 22, 2001, which specify replacing the bearing, part number (P/N) 6010F234M16 (ECF P/N 704A33-651-190) to prevent the loss of tail rotor pitch change control. The DGAC classified these Telex Alerts as mandatory and issued AD Nos. 2001-073-061(A) and 2001-074-081(A), dated March 21, 2001, to ensure the continued airworthiness of these helicopters in France.

These helicopter models are manufactured in France and are type certificated for operation in the United States under the provisions of 14 CFR 21.29 and the applicable bilateral agreement. Pursuant to this bilateral agreement, the DGAC has kept the FAA informed of the situation described above. The FAA has examined the findings of the DGAC, reviewed all available information, and determined that AD action is necessary for products of these type designs that are certificated for operation in the United States.

We have identified an unsafe condition that is likely to exist or develop on other ECF Model AS350B, AS350B1, AS350B2, AS350B3, AS350BA, AS350C, AS350D, AS350D1, AS355E, AS355F, AS355F1, AS355F2, and AS355N helicopters of the same type designs registered in the United States. Therefore, the proposed AD would require replacing each bearing, P/N 6010F234M16 (ECF P/N 704A33-651-190), with an airworthy bearing as follows:

• For ECF Model AS350B3 and AS355N helicopters, replace each bearing that has 270 or more hours time-in-service (TIS) as of the effective date of the AD within 30 hours TIS. Replace each bearing that has less than 270 hours TIS as of the effective date of the AD before the bearing reaches 300 hours TIS. Thereafter, replace each bearing at intervals not to exceed 300 hours TIS.

• For all other ECF Model AS350 or AS355 helicopters, replace each bearing that has 1150 or more hours TIS as of the effective date of the AD within 50 hours TIS. Replace each bearing that has less than 1150 hours TIS as of the effective date of the AD before the bearing reaches 1200 hours TIS. Thereafter, replace each bearing at intervals not to exceed 1200 hours TIS.

• Transferring the bearing from one model to another is permissible by complying with the transfer rules described in the Master Servicing Recommendations Chapter 05.99.

The FAA estimates that 514 helicopters of U.S. registry would be affected by this proposed AD, that it would take approximately 5 work hours per helicopter to replace the bearing, and that the average labor rate is $60 per work hour. Required parts would cost approximately $90. Based on these figures, the total cost impact of the proposed AD on U.S. operators is estimated to be $200,460.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-20-AD.

Applicability: Model AS350B, AS350B1, AS350B2, AS350B3, AS350BA, AS350C, AS350D, AS350D1, AS355E, AS355F, AS355F1, AS355F2, and AS355N helicopters, with tail rotor hub pitch change plate “SNR” bearing (bearing) part number (P/N) 6010F234M16 (Eurocopter France P/N 704A33-651-190), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent seizure of the bearing, loss of tail rotor effectiveness, and subsequent loss of control of the helicopter, accomplish the following:

(a) For Model AS350B3 and AS355N helicopters, replace each bearing with an airworthy bearing as follows:

(1) Within 30 hours TIS for each bearing that has 270 or more hours time-in-service (TIS) as of the effective date of this AD.

(2) Before reaching 300 hours TIS for each bearing that has less than 270 hours TIS as of the effective date of this AD.

(3) Thereafter, replace each bearing at intervals not to exceed 300 hours TIS.

(b) For all other Model AS350 or AS355 helicopters, replace each bearing with an airworthy bearing as follows:

(1) Within 50 hours TIS for each bearing that has 1150 hours or more TIS as of the effective date of this AD.

(2) Before reaching 1200 hours TIS each bearing that has less than 1150 hours TIS as of the effective date of this AD.

(3) Thereafter, replace each bearing at intervals not to exceed 1200 hours TIS.

Note 2: Eurocopter France Alert Telex Nos. 01.00.46 and 01.00.48, both dated February 22, 2001, pertain to the subject of this AD.

(c) When transferring a bearing from one model helicopter to another (refer to the equipment log card), adhere to the transfer rules described in the applicable master servicing recommendations. Remove each bearing from service at or before the service life limits given in paragraph (a)(3) and paragraph (b)(3) of this AD.

Note 3: The Master Servicing Recommendations for the affected helicopters, Chapter 05.99, pertain to the subject of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 4: Information concerning the existence of approved alternative methods of compliance with this AD, if any, may be obtained from the Regulations Group.

(e) Special flight permits may be issued in accordance with 14 CFR 21.197 and 21.199 to operate the helicopter to a location where the requirements of this AD can be accomplished.

Note 5: The subject of this AD is addressed in Direction Generale De L'Aviation Civile (France) AD Nos. 2001-073-061(A) and 2001-074-081(A), both dated March 21, 2001.

Issued in Fort Worth, Texas, on November 20, 2001.
Eric Bries,
Acting Manager, Rotorcraft Directorate, Aircraft Certification Service.

[FR Doc. 01-29594 Filed 11-27-01; 8:45 am]

BILLING CODE 4910-13-P